DEPARTMENT OF HEALTH AND HUMAN SERVICES

Centers for Disease Control and Prevention

The National Center for Environmental Health (NCEH) of the Centers for Disease Control and Prevention (CDC) Announces the Following Meeting

Name: Current Status of the Vessel Sanitation Program (VSP) and Experience to Date with Program Operations: This is a public meeting between CDC and the cruise ship industry, private sanitation consultants, and other interested parties.

Time and Date: 9 a.m.-4 p.m., March 28, 2000.

Place: Auditorium, Port Everglades Administration Building, 1850 Eller Drive, Ft. Lauderdale, Florida 33316. Telephone (954)356-6650; fax (954)356-6671.

Status: Open to the public, limited by the space available. The meeting room accommodates approximately 100 people.

Purpose: During the past 14 years, as part of the revised VSP, CDC has conducted a series of public meetings with members of the cruise ship industry, private sanitation consultants, and other interested parties. This meeting is a continuation of that series of public meetings to discuss the current status of the VSP and experience to date with program operations.

Matters To Be Discussed: Agenda items will include a VSP Program Director Update, 1999 Program Review, Presentation of the Revised VSP Program Operations Manual, Revision of the Final Recommended Shipbuilding Construction Guidelines for Cruise Vessels Destined to Call on U.S. Ports, Update on Disease Surveillance and Outbreak Investigations, Canadian/U.S. Harmonization Update, and VSP Training Seminars.

For a period of 15 days following the meeting, through April 14, 2000, the official record of the meeting will remain open so that additional materials or comments may be submitted for inclusions as part of the record of the meeting. Advanced registration is encouraged. Please provide the following information to Barbara Cline via E-mail: BCline@cdc.gov or facsimile (954)356-6671: name, title, company name, mailing address, telephone number, facsimile number and E-mail address.

Contact Person for More Information: Dave Forney, Chief, VSP, NCEH, CDC, 4770 Buford Highway, NE, M/S F-16, Atlanta, Georgia 30341-3724, telephone (770)488-7333, E-mail: DForney@CDC.GOV.

The Director, Management Analysis and Services office has been delegated the authority to sign Federal Register notices pertaining to announcements of meetings and other committee management activities, for both the Centers for Disease Control and Prevention and the Agency for Toxic Substances and Disease Registry.

Dated: February 15, 2000.
Carolyn J. Russell,
Director, Management Analysis and Services Office Centers for Disease Control and Prevention (CDC).

[FR Doc. 00-4066 Filed 2-18-00; 8:45 am]

BILLING CODE 4163-18-P